DEPARTMENT OF HOMELAND SECURITY

Directorate of Science and Technology

[Docket No. DHS-2004-0008]

Notice of Meeting of Homeland Security Science and Technology Advisory Committee

AGENCY: Office of the Under Secretary for Science and Technology, DHS.

ACTION: Notice.

SUMMARY: The Homeland Security Science and Technology Advisory Committee (HSSTAC) will meet in a partially closed session on November 15-16, 2004.

DATES: The HSSTAC will meet in closed session on November 15, 2004, from 8:30 a.m. to 4:30 p.m. and on November 16, 2004, from 8:30 a.m. to 10 a.m. The Committee will meet in open session on November 16, 2004, from 10 a.m. to 12 p.m.

ADDRESSES: The meeting location for the open session is Booz Allen Hamilton, Virginia Square Plaza, 3811 Fairfax Drive, Arlington, VA 22203.

FOR FURTHER INFORMATION CONTACT: Brenda Leckey, Homeland Security Science and Technology Advisory Committee, Department of Homeland Security, Directorate of Science and Technology, Washington, DC 20528; telephone (202) 254-5041; e-mail HSSTAC@dhs.gov.

SUPPLEMENTARY INFORMATION: Notice of this meeting is given under the Federal Advisory Committee Act (FACA), Pub. L. 92-463, as amended (5 U.S.C. app. 2). The HSSTAC will meet for purposes of receiving briefings from its subcommittees on recent activities and findings in support of the annual report to Congress, deliberating subcommittee findings and providing recommendations to the Under Secretary, and determining future subcommittee and committee activities. In accordance with section 10(d) of the Federal Advisory Committee Act, Pub. L. 92-463, as amended (5 U.S.C. app. 2), the Under Secretary for Science and Technology has determined that this HSSTAC meeting will concern unclassified but sensitive matters to homeland security within the meaning of 5 U.S.C. 552b(c)(9)(B) and that, accordingly, the meeting will be partially closed to the public.

Public Attendance: Due to meeting space restrictions, the maximum number of public attendees will be 20. Members of the public will be registered to attend the public session on a first-come, first-served basis per the procedures that follow. Any member of the public who wishes to attend the public session must provide his or her name, affiliation, social security number, and date of birth no later than 5 p.m. e.s.t., Monday, November 8, 2004. Please provide the required information to Brenda Leckey via e-mail at HSSTAC@dhs.gov, or via phone at (202) 254-5721. Persons with disabilities who require special assistance should indicate so in their admittance request. Photo identification will be required for entry into the public session, and everyone in attendance must be present and seated by 10 a.m. on November 16, 2004.

Public Comments: You may submit comments, identified by DHS-2004-0008, by one of the following methods:

• EPA Federal Partner EDOCKET Web site: http://www.epa.gov/feddocket. Follow instructions for submitting comments on the Web site. The Department of Homeland Security has joined the Environmental Protection Agency (EPA) online public docket and comment system on its Partner Electronic Docket System (Partner EDOCKET). The Department of Homeland Security and its agencies (excluding the United States Coast Guard and Transportation Security Administration) will use the EPA Federal Partner EDOCKET system. The USCG and TSA [legacy Department of Transportation (DOT) agencies] will continue to use the DOT Docket Management System until full migration to the electronic rulemaking Federal docket management system in 2005.

• Federal eRulemaking Portal: http://www.regulations.gov. Follow the instructions for submitting comments.

• E-mail: hsstac@dhs.gov. Include DHS-2004-0008 in the subject line of the message.

• Fax: (202) 254-6177.

• Mail: Homeland Security Science and Technology Advisory Committee, Department of Homeland Security, Washington, DC 20528.

Instructions: All submissions received must include the agency name and docket number for this rulemaking. All comments received will be posted without change to http://www.epa.gov/feddocket, including any personal information provided.

Docket: For access to the docket to read background documents or comments received, go to http://www.epa.gov/feddocket.

Dated: October 14, 2004.
Charles E. McQueary,
Under Secretary for Science and Technology.

[FR Doc. 04-23575 Filed 10-20-04; 8:45 am]

BILLING CODE 4410-10-P